DEPARTMENT OF HOMELAND SECURITY

Cybersecurity and Infrastructure Security Agency

Notice of the Establishment of the Cybersecurity and Infrastructure Security Agency Cybersecurity Advisory Committee

AGENCY: Cybersecurity and Infrastructure Security Agency (CISA), Department of Homeland Security (DHS).

ACTION: Notice of new Federal Advisory Committee.

SUMMARY: Per Federal Advisory Committee Act (FACA) regulations and guidelines, DHS is announcing the establishment of the CISA Cybersecurity Advisory Committee, a new Federal Advisory Committee, for public awareness.

FOR FURTHER INFORMATION CONTACT: Megan Tsuyi, 202-594-7374, CISA_CybersecurityAdvisoryCommittee@cisa.dhs.gov.

SUPPLEMENTARY INFORMATION: The CISA Cybersecurity Advisory Committee was officially established on June 25, 2021. The Committee is established under the National Defense Authorization Act for Fiscal Year 2021, Public Law 116-283 (NDAA). Pursuant to section 871(a) of the Homeland Security Act of 2002, 6 United States Code (U.S.C.) 451(a), this statutory committee is established in accordance with and operates under the provisions of the Federal Advisory Committee Act (FACA) (5 U.S.C., Appendix). The primary purpose of the CISA Cybersecurity Advisory Committee will be to develop, at the request of the CISA Director, recommendations on matters related to the development, refinement, and implementation of policies, programs, planning, and training pertaining to the cybersecurity mission of the Agency. The CISA Cybersecurity Advisory Committee will operate in an advisory capacity only and is in the public interest.

This notice is provided in accordance with the Federal Advisory Committee Act, as amended. The CISA Cybersecurity Advisory Committee will terminate two years from the date of its establishment, unless extended by the Secretary. For additional information on the committee, please visit https://cisa.gov/cisa-cybersecurity-advisory-committee.

Alejandro N. Mayorkas,
Secretary, Department of Homeland Security.

[FR Doc. 2021-24254 Filed 11-4-21; 8:45 am]

BILLING CODE 9110-9P-P